DEPARTMENT OF JUSTICE

Notice of Lodging Proposed Consent Decree

In accordance with Departmental Policy, 28 CFR 50.7, notice is hereby given that a proposed Consent Decree in United States v. Hertrich et al., Case No. 1:10-cv-03068-JKB, was lodged with the United States District Court for the District of Maryland on September 28, 2012.

This proposed Consent Decree concerns a complaint filed by the United States against Frederick W. Hertrich, III and Charles Ernesto, pursuant to Sections 301(a) and 309(d) of the Clean Water Act, 33 U.S.C. 1311(a) & 1319(d), to obtain injunctive relief and impose civil penalties against the Defendants for violating the Clean Water Act by discharging pollutants without a permit into waters of the United States. The proposed Consent Decree resolves these allegations by requiring the Defendants to pay a civil penalty, and requiring Defendant Hertrich to impose a deed restriction on a portion of his property.

The Department of Justice will accept written comments relating to this proposed Consent Decree for thirty (30) days from the date of publication of this Notice. Please address comments to Amanda Shafer Berman, Environmental Defense Section, United States Department of Justice, P.O. Box 7611, Washington, DC 20044, and refer to United States v. Hertrich et al., DJ # 90-5-1-1-18877.

The proposed Consent Decree may be examined at the Clerk's Office, United States District Court for the District of Maryland, 101 W. Lombard Street, Baltimore, MD 21201. In addition, the proposed Consent Decree may be examined electronically at http://www.justice.gov/enrd/Consent_Decrees.html.

Cherie L. Rogers,
Assistant Section Chief, Environmental Defense Section, Environment & Natural Resources Division.

[FR Doc. 2012-24432 Filed 10-3-12; 8:45 am]

BILLING CODE P